DEPARTMENT OF DEFENSE

Department of the Navy

Notice of Intent To Grant Partially Exclusive License; Unique Technologies, Inc.

AGENCY: Department of the Navy, DoD.

ACTION: Notice.

SUMMARY: The Department of the Navy gives notice of its intent to grant Unique Technologies, Inc., a revocable, nonassignable, partially exclusive license, with exclusive fields of use in law enforcement, private security, and entertainment, in the United States to practice the Government-owned invention, U.S. Patent Application Serial Number 10/318,672 entitled “Non-Lethal Flash Grenade.”

DATES: Anyone wishing to object to the grant of this license must file written objections along with supporting evidence, if any, not later than August 8, 2003.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: July 10, 2003.
E.F. McDonnell,
Major, U.S. Marine Corps, Federal Register Liaison Officer.

[FR Doc. 03-18684 Filed 7-22-03; 8:45 am]

BILLING CODE 3810-FF-P